DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2004, there were three applications approved. This notice also includes information on four applications, one approved in May 2001, a second approved in February 2004, and the other two approved in March 2004, inadvertently left off the May 2001, February 2004, and March 2004 notices, respectively. Additionally, 18 approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR Part 158). This notice is published pursuant to paragraph d of § 158.29.

PFC Applications Approved

Public Agency: City of Midland, Texas.

Application Number: 01-04-C-00-MAF.

Application Type: Impose and use a PFC.

PFC Level: $3.00.

Total PFC Revenue Approved in this Decision: $1,493,866.

Earliest Charge Effective Date: July 1, 2016.

Estimated Charge Expiration Date: January 1, 2018.

Class of Air Carriers Not Required to Collect PFC's: None.

Brief Description of Projects Approved for Collection and Use:

Reconstruct north apron and drainage fillets.

Rehabilitate runways and taxiways.

Relocate taxiway Z and reconstruction taxiway Z.

Replace aircraft rescue and firefighting facility.

Reconstruct taxiway C-H-P intersection.

Reconstruct south apron.

Acquire two aircraft rescue and firefighting vehicles.

Decision Date: May 23, 2001.

FOR FURTHER INFORMATION CONTACT: G. Thomas Wade, Southwest Region Airports Division, (817) 222-5613.

Public Agency: Grand Forks Regional Airport Authority, Grand Forks, North Dakota.

Application Number: 04-06-C-00-GFK.

Application Type: Impose and use a PFC.

PFC Level: $4.50.

Total PFC Revenue Approved in this Decision: $1,842,016.

Earliest Charge Effective Date: May 1, 2004.

Estimated Charge Expiration Date: April 1, 2008.

Class of Air Carriers Not Required to Collect PFC's: Air taxi/commercial operators filing FAA Form 1800-31.

Determination: Approved. Based on information submitted in the public agency's application, the FAA has determined that the proposed class accounts for less than 1 percent of the total annual enplanements at Grand Forks International Airport.

Brief Description of Projects Approved for Collection and Use:

Ecological study.

Rehabilitate C apron, phases 1 and 2.

Rehabilitate runway 17R/35L and improve runway safety area.

Master plan update.

Security fencing, phases 1 and 2.

Acquire land for runway protection zone.

Reconstruct T-hangar taxiway.

Reconstruct B apron.

Runway 35L/17R rejuvenation.

Passenger terminal area study.

Reconstruct A apron.

Rehabilitate entrance road.

Reconstruct U taxiway.

Acquire aircraft rescue and firefighting vehicle.

Snow removal equipment.

Construct rotary wing aircraft parking apron.

Rehabilitation of runway 35R/17L and taxiway C.

Decision Date: February 24, 2004.

FOR FURTHER INFORMATION CONTACT: Thomas T. Schauer, Bismarck Airports District Office, (701) 323-7380.

Public Agency: City of San Angelo, Texas.

Application Number: 04-05-C-00-SJT.

Application Type: Impose and use a PFC.

PFC Level: $4.50.

Total PFC Revenue Approved in this Decision: $335,042.

Earliest Charge Effective Date: August 1, 2004.

Estimated Charge Expiration Date: January 1, 2006.

Class of Air Carriers Not Required to Collect PFC's: Part 135 air taxi/commercial operators filing FAA Form 1800-31.

Determination: Approved. Based on information submitted in the public agency's application, the FAA has determined that the proposed class accounts for less than 1 percent of the total annual enplanements at San Angelo Regional Airport/Mathis Field.

Brief Description of Projects Approved for Collection and Use:

Acquire 1,500 gallon aircraft rescue and firefighting vehicle.

Rehabilitate runways 9/27 and 3/21.

Rehabilitate runway lighting.

Acquire runway 21 runway protection zone land.

Rehabilitate taxiways A, B, C, D, E, F, H and P.

Decision Date: March 24, 2004.

FOR FURTHER INFORMATION CONTACT: G. Thomas Wade, Southwest Region Airports Division, (817) 222-5613.

Public Agency: Little Rock Municipal Airport Commission, Little Rock, Arkansas.

Application Number: 04-04-U-00-LIT.

Application Type: Use PFC revenue.

PFC Level: $4.50.

Total PFC Revenue to be Used in this Decision: $4,643,300.

Charge Effective Date: September 1, 2001.

Estimated Charge Expiration Date: April 1, 2005.

Class of Air Carriers Not Required To Collect PFC's: No change from previous decision.

Brief Description of Projects Approved for Use:

Runway 4R/22L extension.

Roosevelt Road and Grundfest Drive relocations.

Decision Date: March 29, 2004.

FOR FURTHER INFORMATION CONTACT: G. Thomas Wade, Southwest Region Airports Division, (817) 222-5613.

Public Agency: Monroe County Board of County Commissioners, Key West, Florida.

Application Number: 04-07-C-00-EYW.

Application Type: Impose and Use a PFC.

PFC Level: $4.50.

Total PFC Revenue Approved in this Decision: $1,420,700.

Earliest Charge Effective Date: May 1, 2004.

Estimated Charge Expiration Date: February 1, 2006.

Class of Air Carriers Not Required To Collect PFC'S: (1) air taxi/commercial operators filing FAA Form 1800-31; (2) commuters or small certificated air carriers filing Department of Transportation Form 298-C T1 or E1.

Determination: Approved. Based on information submitted in the public agency's application, the FAA has determined that the proposed class accounts for less than 1 percent of the total annual enplanements at Key West International Airport (EYW).

Brief Description of Projects Approved for Collection at EYW and Use at EYW:

PFC Application.

Hangar/T-hangar taxilanes and apron, design and construction.

New terminal development.

Noise improvement program, phase 3, design and construction.

Noise contour updates.

Runway safety area environmental assessment for runway 9/27.

Runway 9/27 drainage construction (phase 2).

Apron seal coat, design and construction.

Rehabilitation of beacon/tower, design and construction.

Ground vehicle operation video training system.

Brief Description of Project Approved for Collection at EYW and Use at Florida Keys Marathon Airport: Cargo apron rehabilitation.

Brief Description of Disapproved Project: Disadvantaged Business Enterprise (DBE) program implementation—EYW.

Determination: The FAA has determined that DBE programs are administrative elements of AIP grant approvals. Administrative elements of AIP grant approvals do not meet the project eligibility requirements of § 158.15.

Decision Date: April 14, 2004.

FOR FURTHER INFORMATION CONTACT: Susan Moore, Orlando Airports District Office, (407) 812-6331.

Public Agency: County of Milwaukee, Milwaukee, Wisconsin.

Application Number: 04-10-C-00-MKE.

Application Type: Impose and use a PFC.

PFC Level: $3.00.

Total PFC Revenue Approved in this Decision: $11,000,601.

Earliest Charge Effective Date: March 1, 2017.

Estimated Charge Expiration Date: September 1, 2017.

Class of Air Carriers Not Required To Collect PFC's: Air taxi/commercial operators filing FAA Form 1800-31.

Determination: Approved. Based on information submitted in the public agency's application, the FAA has determined that the proposed class accounts for less than 1 percent of the total annual enplanements at General Mitchell International Airport.

Brief Description of Projects Approved for Collection:

Phase 2 noise mitigation program.

E concourse aircraft ramp.

Brief Description of Projects Approved for Collection and Use:

Baggage claim area expansion—design.

Concourse D security.

Inline baggage security—design.

Decision Date: April 15, 2004.

FOR FURTHER INFORMATION CONTACT: Sandra E. DePottey, Minneapolis Airports District Office, (612) 713-4363.

Public Agency: Virgin Islands Port Authority, St. Thomas, Virgin Islands.

Application Number: 04-07-C-00-STT.

Application Type: Impose and use a PFC.

PFC Level: $3.00.

Total PFC Revenue Approved in this Decision: $8,000,000.

Earliest Charge Effective Date: July 1, 2004.

Estimated Charge Expiration Date: April 1, 2008.

Class of Air Carriers Not Required To Collect PFC's: None.

Brief Description of Projects Approved for Collection:

Expansion, reconfiguration, and redesign of Federal Inspection/screening area.

Reconfiguration and redesign on passenger arrival area, baggage claim delivery area, and passenger pick-up area.

Reimbursement of funds used for terminal improvement.

Decision Date: April 30, 2004.

FOR FURTHER INFORMATION CONTACT: Susan Moore, Orlando Airports District Office, (407) 812-6331

Amendments to PFC Approvals
Amendment no., City, State | Amendment approved date | Original approved net PFC revenue | Amended approved net PFC revenue | Original estimated charge exp. date | Amended estimated charge exp. date
01-05-C-01-MSN, Madison, WI | 03/29/04 | $46,656,115 | $79,902,856 | 03/01/14 | 10/01/23
01-04-I-01-PLB, Plattsburgh, NY | 03/31/04 | 46,275 | 10,804 | 12/01/02 | 02/01/99
01-05-C-01-PLB, Plattsburgh, NY | 03/31/04 | 56,500 | 56,500 | 04/01/05 | 04/01/05
01-05-C-02-PLB, Plattsburgh, NY | 03/31/04 | 56,500 | 35,513 | 04/01/05 | 05/01/00
99-03-C-03-LLB, Lubbock, TX | 04/01/04 | 4,529,514 | 4,622,222 | 09/01/02 | 09/01/02
02-04-C-01-LBB, Lubbock, TX | 04/01/04 | 3,220,308 | 3,356,723 | 11/01/04 | 02/01/05
95-01-C-06-MKE, Milwaukee, WI | 04/05/04 | 21,780,797 | 21,147,706 | 12/01/05 | 05/01/98
95-03-C-05-MKE, Milwaukee, WI | 04/05/04 | 44,027,574 | 44,291,198 | 05/01/04 | 12/01/04
99-04-U-02-MKE, Milwaukee, WI | 04/05/04 | NA | NA | 12/01/05 | 05/01/98
00-05-U-02-MKE, Milwaukee, WI | 04/05/04 | NA | NA | 05/01/04 | 12/01/04
00-06-C-02-MKE, Milwaukee, WI | 04/05/04 | 88,029,494 | 114,363,097 | 12/01/11 | 10/01/17
03-08-U-01-MKE, Milwaukee, WI | 04/05/04 | NA | NA | 12/01/11 | 10/01/17
02-03-C-01-ATL, Atlanta, GA | 04/09/04 | 1,269,547,063 | 1,359,194,382 | 10/01/13 | 10/01/13
03-05-U-01-ATL, Atlanta, GA | 04/09/04 | NA | NA | 10/01/13 | 10/01/13
02-07-C-01-MKE, Milwaukee, WI | 04/14/04 | 38,715,244 | 33,637,973 | 05/01/15 | 03/01/17
03-09-U-01-MKE, Milwaukee, WI | 04/14/04 | NA | NA | 05/01/15 | 03/01/17
00-05-C-01-DBQ, Dubuque, IA | 04/20/04 | 631,592 | 623,300 | 06/01/04 | 09/01/04
02-06-C-01-MSY, New Orleans, LA | 04/23/04 | 148,375,724 | 171,876,315 | 01/01/12 | 05/01/11

Issued in Washington, DC on May 21, 2004.
JoAnn Horne,
Manager, Financial Analysis and Passenger Facility Charge Branch.

[FR Doc. 04-12180 Filed 5-27-04; 8:45 am]

BILLING CODE 4910-13-M